DEPARTMENT OF HEALTH AND HUMAN SERVICES

Health Resources and Services Administration National Advisory Council on Nurse Education and Practice; Notice of Meeting

In accordance with section 10(a)(2) of the Federal Advisory Committee Act (Pub. L. 92-463), notice is hereby given of the following meeting:

Name: National Advisory Council on Nurse Education and Practice (NACNEP).

Dates and Times: November 6, 2003, 8:30 a.m.-5 p.m.; November 7, 2003, 8:30 a.m.-3 p.m.

Place: The St. Regis Hotel, 923 16th Street at K Street NW., Washington, DC 20006.

Status: The meeting will be open to the public.

Agenda: Department, Agency, Bureau, and Division administrative updates will be provided. The Council will address issues related to performance measures and outcomes in the implementation of the Nurse Reinvestment Act and other Title VIII grant programs. A panel on Interdisciplinary Education to Promote Patient Safety and Quality of Care will be presented by Division of Nursing and Division of Medicine sponsored grantees. Division of Nursing and Bureau of Health Professions presentations of performance measures and outcomes will follow. The Council will consider the Gallup Poll Results of Federal Advisory Committees. Council workgroup sessions will provide a forum to discuss presentations before Council and develop recommendations related to performance outcomes.

The NACNEP will comment on the Third Report to the Secretary of the Department of Health and Human Services and the Congress.

For Further Information Contact: Any one interested in obtaining a roster of members, minutes of the meeting, or other relevant information should write or contact Ms. Elaine G. Cohen, M.S., R.N., Executive Secretary, National Advisory Council on Nurse Education and Practice, Parklawn Building, Room 9-35, 5600 Fishers Lane, Rockville, Maryland 20857, telephone (301) 443-1405.

Dated: October 15, 2003.
Jane M. Harrison,
Director, Division of Policy Review and Coordination.

[FR Doc. 03-26574 Filed 10-21-03; 8:45 am]

BILLING CODE 4165-15-P